DEPARTMENT OF COMMERCE

National Institute of Standards and Technology

Advanced Technology Program Advisory Committee

AGENCY: National Institute of Standards and Technology, Department of Commerce.

ACTION: Notice of renewal.

SUMMARY: In accordance with the provisions of the Federal Advisory Committee Act, 5 U.S.C. App. 2, and the General Services Administration (GSA) rule on Federal Advisory Committee Management, 41 CFR part 101-6, and after consultation with GSA, the Secretary of Commerce has determined that the renewal of the Advanced Technology Program Advisory Committee is in the public interest in connection with the performance of the duties imposed on the Department by law.

The Committee was first established in July 1999 to advise ATP regarding their programs, plans, and policies. In renewing the Board, the Secretary has established it for an additional two years. During the next two years, the Committee plans to study and make recommendations regarding a number of issues related to further improving the effectiveness of the program, such as, but not limited to, strengthening ties between the ATP and state technology programs and further encouraging the involvement of universities.

The Committee will consist of not fewer than 6 nor more than 12 members to be appointed by the Director of the National Institute of Standards and Technology to assure a balanced membership that will represent the views and needs of customers, providers, and others involved in industrial extension throughout the United States.

The Committee will function solely as an advisory body and in compliance with the provisions of the Federal Advisory Committee Act. Copies of the renewed charter will be filed with the appropriate committees of the Congress and with the Library of Congress.

FOR FURTHER INFORMATION CONTACT: Marc Stanley, Director, Advanced Technology Program, National Institute of Standards and Technology, 100 Bureau Drive, Stop 4700, Gaithersburg, Maryland 20899-4700; telephone: 301-975-2162.

Dated: June 30, 2003.
Karen H. Brown,
Deputy Director.

[FR Doc. 03-17636 Filed 7-10-03; 8:45 am]

BILLING CODE 3510-13-P